DEPARTMENT OF LABOR

Occupational Safety and Health Administration

[Docket No. ICR-1218-0208 (2004)]

Standard on the Storage and Handling of Anhydrous Ammonia; Extension of the Office of Management and Budget's Approval of Information Collection (Paperwork) Requirements

AGENCY: Occupational Safety and Health Administration (OSHA), Labor.

ACTION: Request for comment.

SUMMARY: OSHA solicits public comments concerning its request for an extension of the information-collection requirements contained in its Standard on the Storage and Handling of Anhydrous Ammonia (29 CFR 1910.111 (the “Standard”)). Paragraphs (b)(3) and (b)(4) of the Standard have paperwork requirements that apply to nonrefrigerated containers and systems and refrigerated containers, respectively. Employers use these containers and systems to store and transfer anhydrous ammonia in the workplace.

DATES: Comments must be submitted by the following dates:

Hard Copy: Your comments must be submitted (postmarked or received) by September 14, 2004.

Facsimile and electronic transmissions: Your comments must be received by September 14, 2004.

ADDRESSES:

I. Submission of Comments

Regular mail, express delivery, hand-delivery, and messenger service: Submit your written comments and attachments to the OSHA Docket Office, Docket No. ICR-1218-0208(2004), U.S. Department of Labor, Room N-2625, 200 Constitution Ave, NW., Washington, DC 20210; OSHA Docket Office and Department of Labor hours of operation are 8:15 a.m. to 4:45 p.m., e.s.t.

Facsimile: If your comments, including any attachments, are 10 pages or fewer, you may fax them to the OSHA Docket Office at (202) 693-1648. You must include the docket number, ICR 1218-0208(2004), in your comments.

Electronic: You may submit comments, but not attachments, through the Internet at http://ecomments.osha.gov.

II. Obtaining Copies of the Supporting Statement for the Information Collection Request

The Supporting Statement for the Information Collection Request is available for downloading from OSHA's Web site at http://www.osha.gov. The supporting statement is available for inspection and copying in the OSHA Docket Office, at the address listed above. A printed copy of the supporting statement can be obtained by contacting Theda Kenney at (202) 693-2222.

FOR FURTHER INFORMATION CONTACT: Theda Kenney, Directorate of Standards and Guidance, OSHA, U.S. Department of Labor, Room N-3609, 200 Constitution Avenue, NW., Washington, DC 20210; telephone (202) 693-2222.

SUPPLEMENTARY INFORMATION:

I. Submission of Comments on This Notice and Internet Access to Comments and Submissions

You may submit comments in response to this document by (1) hard copy, (2) fax transmission (facsimile), or (3) electronically through the OSHA webpage. Please note you cannot attach materials such as studies or journal articles to electronic comments. If you have additional materials, you must submit three copies of them to the OSHA Docket Office at the address above. The additional materials must clearly identify your electronic comments by name, date, subject and docket number so that we can attach them to your comments. Because of security-related problems there may be a significant delay in the receipt of comments by regular mail. Please contact the OSHA Docket Office at (202) 693-2350 for information about security procedures concerning the delivery of materials by express delivery, hand delivery and messenger service.

II. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)).

This program ensures that information is in the desired format, reporting burden (time and costs) is minimized, collection instruments are understandable, and OSHA's estimate of the information-collection burden is correct. The Occupational Safety and Health Act of 1970 (the Act) authorizes information collection by employers as necessary or appropriate for enforcement of the Act or for developing information regarding the causes and prevention of occupational injuries, illnesses, and accidents (29 U.S.C. 657).

Paragraph (b)(3) of the Standard specifies that systems have nameplates if required, and that these nameplates “be permanently attached to the system (as specified by paragraph (b)(3)(ii)(j)) so as to be readily accessible for inspection * * *.” In addition, this paragraph requires that markings on containers and systems covered by paragraphs (c) (“Systems utilizing stationary, nonrefrigerated storage containers”), (f) (“Tank motor vehicles for the transportation of ammonia”), (g) (“Systems mounted on farm vehicles other than for the application of ammonia”), and (h) (“Systems mounted on farm vehicles for the application of ammonia”) provide information regarding nine specific characteristics of the containers and systems. Similarly, paragraph (b)(4) of the Standard specifies that refrigerated containers be marked with a nameplate on the outer covering in an accessible place which provides information regarding eight specific characteristics of the container.

The required markings ensure that employers use only properly designed and tested containers and systems to store anhydrous ammonia, thereby, preventing accidental release of, and exposure of employees to, this highly toxic and corrosive substance. In addition, these requirements provide the most efficient means for an OSHA compliance officer to ensure that the containers and systems are safe.

III. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

IV. Proposed Actions

OSHA is proposing to decrease the existing burden-hour estimate, and to extend the Office of Management and Budget's (OMB) approval, of the collection-of-information requirements specified in paragraphs (b)(3) and (b)(4) of the Standard on the Storage and Handling of Anhydrous Ammonia. In this regard, the Agency is proposing to decrease the current burden-hour estimate from 2,500 hours to 345 hours, for a total adjustment decrease of 2,155 burden hours.

OSHA will summarize the comments submitted in response to this notice, and will include this summary in its request to OMB to extend the approval of these information collection requirements.

Type of Review: Extension of a currently-approved information collection.

Title: Storage and Handling of Anhydrous Ammonia (29 CFR 1910.111).

OMB Number: 1218-0208.

Affected Public: Business or other for-profit; not-for-profit institutions; farms; Federal government; State, local or tribal governments.

Number of Respondents: 2,030.

Frequency: On occasion.

Average Time per Response: 10 minutes (.17 hours).

Estimated Total Burden Hours: 345 hours.

Estimated Cost (Operation and Maintenance): $0.

V. Authority and Signature

John L. Henshaw, Assistant Secretary of Labor for Occupational Safety and Health, directed the preparation of this notice. The authority for this notice is the Paperwork Reduction Act of 1995 (44 U.S.C. 3506) and Secretary of Labor's Order No. 5-2002 (67 FR 65008).

Signed at Washington, DC on July 12th, 2004.
John L. Henshaw,
Assistant Secretary of Labor.

[FR Doc. 04-16187 Filed 7-15-04; 8:45 am]

BILLING CODE 4510-26-M